DEPARTMENT OF HEALTH AND HUMAN SERVICES

Food and Drug Administration

21 CFR Part 73

[Docket No. FDA-2018-C-4117]

Listing of Color Additives Exempt From Certification; Butterfly Pea Flower Extract; Confirmation of Effective Date

AGENCY: Food and Drug Administration, HHS.

ACTION: Final rule; confirmation of effective date.

SUMMARY: The Food and Drug Administration (FDA or we) is confirming the effective date of October 5, 2021, for the final rule that appeared in the Federal Register of September 2, 2021, and that amended the color additive regulations to provide for the safe use of butterfly pea flower extract in various food categories at levels consistent with good manufacturing practice.

DATES: Effective date of final rule published in the Federal Register of September 2, 2021 (86 FR 49230) confirmed: October 5, 2021.

ADDRESSES: For access to the docket to read background documents or comments received, go to https://www.regulations.gov and insert the docket number found in brackets in the heading of this final rule into the “Search” box and follow the prompts, and/or go to the Dockets Management Staff, 5630 Fishers Lane, Rm. 1061, Rockville, MD 20852.

FOR FURTHER INFORMATION CONTACT: Stephen DiFranco, Center for Food Safety and Applied Nutrition, Food and Drug Administration, 5001 Campus Dr., College Park, MD 20740, 240-402-2710.

SUPPLEMENTARY INFORMATION: In the Federal Register of September 2, 2021 (86 FR 49230), we amended the color additive regulations in 21 CFR part 73 Color Additives Exempt From Certification by adding 21 CFR 73.69 to provide for the safe use of butterfly pea flower extract as a color additive in various food categories at levels consistent with good manufacturing practice.

We gave interested persons until October 4, 2021, to file objections or requests for a hearing. We received no objections or requests for a hearing on the final rule. Therefore, we find that the effective date of the final rule that published in the Federal Register of September 2, 2021, should be confirmed.

List of Subjects in 21 CFR Part 73

Color additives, Cosmetics, Drugs, Foods, Medical devices.

Therefore, under the Federal Food, Drug, and Cosmetic Act (21 U.S.C. 321, 341, 342, 343, 348, 351, 352, 355, 361, 362, 371, 379e) and under authority delegated to the Commissioner of Food and Drugs, we are giving notice that no objections or requests for a hearing were filed in response to the September 2, 2021, final rule. Accordingly, the amendments issued thereby became effective October 5, 2021.

Dated: December 21, 2021.
Lauren K. Roth,
Associate Commissioner for Policy.

[FR Doc. 2021-28159 Filed 12-28-21; 8:45 am]

BILLING CODE 4164-01-P